DEPARTMENT OF TRANSPORTATION

Federal Aviation Administration

14 CFR Part 187

Update of August 2001 Overflight Fees

AGENCY: Federal Aviation Administration (FAA), DOT.

ACTION: Notice of establishment of an Aviation Rulemaking Committee on Overflight Fees.

SUMMARY: On December 17, 2008, the Acting Administrator of the Federal Aviation Administration (FAA) approved the Charter of an Aviation Rulemaking Committee (ARC) created for the purpose of consulting with the FAA regarding the cost of providing air traffic control and related services to overflights, and providing advice and recommendations to the Administrator regarding the future level of FAA's Overflight Fees. This Notice includes a copy of the Overflight Fees ARC Charter and information about how to request to participate as a member of the ARC.

FOR FURTHER INFORMATION CONTACT: For more information, please contact Dave Lawhead, Office of Financial Controls (AFC-300), FAA, Washington, DC 20591. E-mail: Dave.lawhead@faa.gov, or by phone at (202) 267-9759.

SUPPLEMENTARY INFORMATION: The Overflight Fees ARC Charter is printed in its entirety immediately following this Notice. Please note that, in addition to the Chair, and a Vice-Chair, if one is designated, the ARC will be limited to no more than 15 other members, each of whom will serve totally at their own expense, with no compensation, per diem, or reimbursement of expenses of any kind. If more than 15 air carriers, trade associations, or other system users express an interest in serving on the Committee, membership will be determined by the FAA. In making membership selections, the FAA will consider geographic diversity, operational differences, and the amount of Overflight Fees paid to the FAA by the requester in fiscal year 2008. If you want to be considered for selection as a member of the ARC, you need to notify the contact person listed in this Notice within 30 days of the date of publication of the Notice.

Issued in Washington, DC, on February 5, 2009.
Ramesh K. Punwani,
Assistant Administrator for Financial Services/CFO, Federal Aviation Administration.

Order

Federal Aviation Administration Overflight Fee Aviation Rulemaking Committee Charter

1. Purpose. This order constitutes the charter for the Overflight Fee Aviation Rulemaking Committee (the “Committee”) that is designated and established pursuant to the Administrator's authority under 49 U.S.C. 106(p)(5).

2. Distribution. This order is distributed at the director level in Washington headquarters and throughout the Office of the Associate Administrator for Financial Services and the Air Traffic Organization.

3. Background. Section 273 of the Federal Aviation Reauthorization Act of 1996, 49 U.S.C. 45301 (the “1996 Act”), authorized the FAA to impose fees on aircraft that traverse U.S.-controlled airspace but neither take off nor land in the United States. Under the 1996 Act, “[s]ervices for which costs may be recovered include the costs of air traffic control, navigation, weather services, training and emergency services which are available to facilitate safe transportation over the United States, and other services provided by the Administrator or by programs financed by the Administrator to flights that neither take off nor land in the United States.” 49 U.S.C. 45301(b)(1)(B). At the time of its enactment, section 273 provided that the FAA Administrator “shall ensure that each of the [overflight] fees * * * is directly related to the Administration's costs * * * of providing the service rendered.” 49 U.S.C. 45301(b)(1)(B)(1996). In November 2001, Section 273 was amended to state that the Administrator “shall ensure that each of the fees * * * is reasonably related to the Administration's costs, as determined by the Administrator, of providing the service rendered * * *.” Section 119(d) of the Aviation and Transportation Security Act of 2001, Public Law 107-71.

4. Objective. The Administrator deems it appropriate to create the Overflight Fees Aviation Rulemaking Committee to obtain advice and recommendations on the appropriate amounts for future Overflight Fees.

5. Duties. The Committee is to evaluate information regarding the services rendered to overflights by the FAA and the costs of providing those services to overflights, and, based on that evaluation, to make recommendations regarding future overflight fee increases. The Committee shall provide its recommendations to the Administrator by a deadline to be determined by the Chair, which may be modified by the Administrator.

6. Organization and Administration.

a. The Committee shall be led by the Chair, who shall be a full-time employee of the FAA appointed by the Assistant Administrator for Financial Services. The Chair may designate a Vice Chair, who shall not be employed by the FAA and who shall be a representative of foreign air carriers or trade associations of those carriers, or other system users who are subject to Overflight Fees.

b. In addition to the Chair and Vice Chair, the Committee shall be comprised of not more than 15 members, who shall be employees or other representatives of the foreign air carriers (or trade associations of those carriers) or other system users that are subject to the FAA's Overflight Fees. The members shall be selected by the Associate Administrator for Financial Services and, to the extent possible, the membership also shall be geographically diverse and include representatives that conduct primarily enroute overflights and primarily oceanic overflights. Each member may designate one representative and one alternate to serve on the Committee. Each member of the Committee shall have one vote.

c. Members may permit their employees and consultants (including financial, technical and legal professionals) to attend any Committee meeting and review Committee documents.

d. Additional FAA personnel may participate, as directed by the Chair, as adjunct non-members of the Committee.

e. The Assistant Administrator for Financial Services is the sponsor of the Committee. The Associate Administrator for Financial Services shall receive all Committee recommendations and reports. The Associate Administrator shall also be responsible for providing administrative support for the Committee and shall provide a secretariat. The Chair shall be responsible for establishment of the procedures, consistent with this charter, under which the Committee shall operate.

f. Meetings shall be held as frequently as needed, as determined solely by the Chair.

g. The Chair shall arrange notification to all members of the time, place and agenda for any meeting through the secretariat and shall ensure that, to the extent practicable, any materials to be considered at the meeting are distributed to Committee members in advance. The Committee is not required to keep minutes, but the Chair may elect to do so. Committee recommendations to the Administrator must be approved by at least a two-thirds vote of the members. The Chair shall have the right to submit a separate report or recommendation to the Administrator.

7. Compensation. All non-government Committee members shall serve without compensation from the U.S. government, and shall bear all costs related to their participation on the Committee.

8. Public Participation. Unless otherwise decided by the Chair, all meetings of the Committee shall be closed. Interested persons wishing to attend a meeting who are not members of the Committee (or employees or consultants invited by a member) must request and receive approval in advance of the meeting from the Chair.

9. Availability of Records. Subject to the provisions of the Freedom of Information Act, Title 5 U.S.C. 522, records, reports, agendas, working papers, and other documents that are made available to, prepared by, or prepared for the Committee shall be available for public inspection and copying at the FAA Office of Rulemaking, 800 Independence Avenue, SW., Washington, DC 20591. Fees shall be charged for the information furnished to the public in accordance with the fee schedule published in part 7 of title 49, Code of Federal Regulations.

10. Public Interest. The formation of the Committee is determined to be in the public interest in connection with the performance of duties imposed on the FAA by law.

11. Effective Date and Duration. This order is effective immediately. The Committee shall remain in existence for two years after the effective date of this Order unless sooner terminated or extended by the Administrator.

Dated: December 17, 2008.
Robert A. Sturgell,
Acting Administrator.

[FR Doc. E9-2985 Filed 2-11-09; 8:45 am]

BILLING CODE 4910-13-P